COMMITTEE FOR PURCHASE FROM PEOPLE WHO ARE BLIND OR SEVERELY DISABLED

41 CFR Ch. 51

Semiannual Regulatory Agenda

AGENCY: Committee for Purchase From People Who Are Blind or Severely Disabled.

ACTION: Semiannual Regulatory Agenda.

SUMMARY: This document sets forth the regulatory agenda of the Committee for Purchase From People Who Are Blind or Severely Disabled. This agenda is issued in accordance with Executive Order 12866 and the Regulatory Flexibility Act. The agenda lists regulations that are currently under development or review or that the Committee expects to have under development or review during the next 12 months. The purpose for publishing this agenda is to advise the public of the Committee's current and future regulatory actions.

FOR FURTHER INFORMATION CONTACT: For further information on the agenda in general, contact Shelly Hammond, Director, Contracting and Policy, Committee for Purchase From People Who Are Blind or Severely Disabled, 1401 S Clark Street, Suite 715, Arlington, VA 22202; (703) 603-2127.

SUPPLEMENTARY INFORMATION: Under Executive Order 12866 (58 FR 51735, October 4, 1993), each agency is required to prepare an agenda of all regulations under development or review. The Regulatory Flexibility Act (5 U.S.C. 601-612) has a similar agenda requirement (5 U.S.C. 602). Under the law, the agenda must list any regulation that is likely to have a significant economic impact on a substantial number of small entities.

The Office of Management and Budget has issued guidelines prescribing the form and content of the regulatory agenda. Under those guidelines, the agenda must list all regulatory activities being conducted or reviewed in the next 12 months and provide certain specified information on each regulation. All of the items on this agenda are current or projected rulemakings.

Dated: August 02, 2018.
Kim Zeich,
Deputy Executive Director.

Committee for Purchase From People Who Are Blind or Severely Disabled—Proposed Rule Stage
Sequence No. | Title | Regulation Identifier No.
355 | Significant Revisions of Part 51, Committee for Purchase From People Who Are Blind or Severely Disabled (Rulemaking Resulting From a Section 610 Review) | 3037-AA12

COMMITTEE FOR PURCHASE FROM PEOPLE WHO ARE BLIND OR SEVERELY DISABLED (CPBSD)

Proposed Rule Stage

355. • Significant Revisions of Part 51, Committee for Purchase From People Who Are Blind or Severely Disabled (Rulemaking Resulting From a Section 610 Review)

E.O. 13771 Designation: Independent agency.

Legal Authority: 41 U.S.C. 85

Abstract: We are issuing a notice of proposed rulemaking (NPRM) to solicit public comments on the potential cost and benefits of certain corrections and clarifications to 41 CFR 51 to significant changes within the chapter or with the Federal Acquisition Regulation addressing the Javits-Wagner-O'Day Act or the AbilityOne Program. This regulation was originally published in 1991 and changes in Committee practices and concepts have occurred which need to be reflected in this section to the CFR. The revisions should clarify the roles and responsibilities of the Committee, Central Nonprofit, and Nonprofit Agencies.

Timetable:

Action | Date | FR Cite
NPRM | 02/00/19

Regulatory Flexibility Analysis Required: No.

Agency Contact: Shelly Hammond, Director, Policy and Programs, Committee for Purchase From People Who Are Blind or Severely Disabled, 1401 S Clark Street, Suite 715, Arlington, VA 22202, Phone: 703 603-2127, Email: shammond@abilityone.gov.

RIN: 3037-AA12

[FR Doc. 2018-24094 Filed 11-15-18; 8:45 am]

BILLING CODE 6353-01-P